DEPARTMENT OF COMMERCE

National Oceanic and Atmospheric Administration

50 CFR Part 622

[I.D. 121103D]

Fisheries of the Caribbean, Gulf of Mexico, and South Atlantic; Reef Fish Fishery of the Gulf of Mexico; Amendment 22; Public Hearings

AGENCY: National Marine Fisheries Service (NMFS), National Oceanic and Atmospheric Administration (NOAA), Commerce.

ACTION: Notice of public hearings; request for comments.

SUMMARY: The Gulf of Mexico Fishery Management Council (Council) will hold public hearings to solicit comments on Draft Amendment 22 to the Reef Fish Fishery Management Plan of the Gulf of Mexico (Draft Amendment 22) that contains alternatives for red snapper to: Redefine the biological reference points of maximum sustainable yield (MSY) and optimum yield (OY); set status determination criteria including maximum fishing mortality threshold (MFMT) and minimum stock size threshold (MSST); establish a rebuilding schedule that is consistent with the Sustainable Fisheries Act of 1996 (SFA); and establish a standardized methodology to collect bycatch information.

DATES: The meetings will be held in January 2004. See SUPPLEMENTARY INFORMATION for specific dates and times. Comments on the amendment should be received by January 9, 2004.

ADDRESSES: Written comments should be sent to, and copies of the scoping document are available from, the Gulf of Mexico Fishery Management Council, 3018 U.S. Highway 301, North, Suite 1000, Tampa, Florida 33619.

FOR FURTHER INFORMATION CONTACT: Mr. Stu Kennedy, Fishery Biologist, Gulf of Mexico Fishery Management Council; telephone: (813) 228-2815.

SUPPLEMENTARY INFORMATION: The Council will hold public hearings to solicit comments on Draft Amendment 22. Draft Amendment 22 contains alternatives for red snapper to: (1) redefine the biological reference points of MSY and OY; (2) set status determination criteria including MFMT and MSST; (3) establish a rebuilding schedule that is consistent with the SFA; and (4) establish a standardized methodology to collect bycatch information.

The red snapper stock is in an overfished condition and subject to overfishing. Currently this stock is under a rebuilding program to restore the stock to 20 percent spawning potential ratio (SPR) by 2019. However, this plan is inconsistent with NMFS' National Standard Guidelines (NSG) for setting definitions of overfishing and the overfished condition of stocks that are consistent with SFA and for setting the maximum rebuilding time. Definitions of stock size, the overfished threshold, and yield must be biomass based, but overfishing definitions can be based on SPR. Therefore, before the rebuilding plan can be revised, overfished and overfishing targets and thresholds that are consistent with SFA and the NSG must be specified so that rebuilding goals are known.

For overfished stocks, a recovery plan must be developed to restore the stocks to the biomass level capable of producing MSY on a continuing basis (BMSY). This is more conservative than the current overfishing definition of 20 percent SPR, which is estimated to be the minimal level needed to prevent future declines in the stock. Rebuilding periods are to be as short as possible, but not to exceed 10 years unless the conditions dictate otherwise. For red snapper, even in the absence of fishing mortality, it would take more than 10 years to rebuild the stock. Therefore, NOAA Fisheries' NSG allows for a maximum recovery period in the absence of fishing mortality (12 years) plus the mean generation time (19.6 years), or 31.6 years for red snapper. A recovery plan adopted by the Council under the new guidelines in 2001 would have to reach its recovery target during the year 2032 or earlier. The Magnuson-Stevens Fishery Conservation and Management Act (Magnuson-Stevens Act) requires that FMPs establish a standardized methodology to assess the amount and type of bycatch occurring in the fishery. An additional requirement of the Magnuson-Stevens Act is to identify and implement conservation measures that, to the extent practicable, minimize bycatch. These actions have not been addressed by the Council for the Gulf reef fish fishery and must be considered.

The public hearings will be held at the following locations and dates from 7 p.m. - 10 p.m.:

1. Monday, January 5, 2004, Laguna Madre Learning Center, Port Isabel High School, Highway 100, Port Isabel, TX 78578; telephone: 956-943-0052;

2. Monday, January 5, 2004 , Mississippi Department of Marine Resources, 1141 Bayview Drive, Biloxi, MS 39530; telephone: 228-374-5000;

3. Tuesday, January 6, 2004, Port Aransas Civic Center, 710 West Avenue A, Port Aransas, TX 78373; telephone: 361-749-4111;

4. Tuesday, January 6, 2004, Hilton Beachfront Garden Inn, 23092 Perdido Beach Boulevard, Orange Beach, AL 36561; telephone: 334-974-1600;

5. Wednesday, January 7, 2004, San Luis Resort, 5222 Seawall Boulevard, Galveston Island, TX 77551; telephone: 409-744-1500;

6. Wednesday, January 7, 2004, Destin Community Center, 101 Stahlman Avenue, Destin, FL 32541; telephone: 850-654-5184;

7. Thursday, January 8, 2004, New Orleans Airport Hilton, 901 Airline Drive, Kenner, LA 70062; telephone: 504-469-5000; and

8. Thursday, January 8, 2004, Holiday Inn, 15208 Gulf Boulevard, Madeira Beach, FL 33708; telephone: 727-392-2257.

Public comments on the draft amendment that are received in the Council office by 5 p.m., January 9, 2004, will be presented to the Council.

These meetings are physically accessible to people with disabilities. Requests for sign language interpretation or other auxiliary aids should be directed to Trish Kennedy at the Council (see ADDRESSES) by December 29, 2003.

Dated: December 16, 2003.
Bruce C. Morehead,
Acting Director, Office of Sustainable Fisheries, National Marine Fisheries Service.

[FR Doc. 03-31488 Filed 12-19-03; 8:45 am]

BILLING CODE 3510-22-S